DEPARTMENT OF AGRICULTURE

Animal and Plant Health Inspection Service

7 CFR Part 301

[Docket No. 98-084-2]

Mexican Fruit Fly Regulations; Removal of Regulated Area

AGENCY: Animal and Plant Health Inspection Service, USDA.

ACTION: Affirmation of interim rule as final rule.

SUMMARY: We are adopting as a final rule, without change, an interim rule that amended the Mexican fruit fly regulations by removing the quarantined portion of Los Angeles County, CA, from the list of areas regulated because of the Mexican fruit fly. The quarantine was necessary to prevent the spread of the Mexican fruit fly to noninfested areas of the United States. We have determined that the Mexican fruit fly has been eradicated from Los Angeles County, CA, and that restrictions on the interstate movement of regulated articles from the previously regulated area are no longer necessary.

EFFECTIVE DATE: The interim rule became effective on August 15, 1998.

FOR FURTHER INFORMATION CONTACT: Mr. Michael B. Stefan, Operations Officer, Domestic and Emergency Operations Office, PPQ, APHIS, 4700 River Road Unit 134, Riverdale, MD 20737-1236 (301) 734-8247.

SUPPLEMENTARY INFORMATION:

Background

In an interim rule effective August 15, 1998, and published in the Federal Register on August 20, 1998 (63 FR 44537-44538, Docket No. 98-084-1), we amended the Mexican fruit fly regulations (contained in 7 CFR 301.64 through 301.64-10) by removing a portion of Los Angeles County, CA, from the list of quarantined areas in § 301.64-3(c). That action relieved unnecessary restrictions on the interstate movement of regulated articles from this area.

Comments on the interim rule were required to be received on or before October 19, 1998. We did not receive any comments. Therefore, for the reasons given in the interim rule, we are adopting the interim rule as a final rule.

This action also confirms the information contained in the interim rule concerning Executive Order 12866 and the Regulatory Flexibility Act, Executive Orders 12372 and 12988, and the Paperwork Reduction Act.

Further, for this action, the Office of Management and Budget has waived the review process required by Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301and that was published at 63 FR 44537-44538 on August 20, 1998.

Authority: Title IV, Pub. L. 106-224, 114 Stat. 438, 7 U.S.C. 7701-7772; 7 U.S.C. 166; 7 CFR 2.22, 2.80, and 371.3.

Done in Washington, DC, this 24th day of August 2000.
Bobby R. Acord,
Acting Administrator, Animal and Plant Health Inspection Service.

[FR Doc. 00-22006 Filed 8-28-00; 8:45 am]

BILLING CODE 3410-34-U